DEPARTMENT OF HOMELAND SECURITY

Coast Guard

[Docket No. USCG-2010-0075]

St. Croix River Aids to Navigation

AGENCY: Coast Guard, DHS.

ACTION: Notice of public meeting; request for comments.

SUMMARY: The Coast Guard announces a public meeting to receive comments on the aids to navigation in the St. Croix River.

DATES: A public meeting will be held on Tuesday, March 2, 2010, from 6:30 p.m. to 8:30 p.m. to provide an opportunity for oral comments. Written comments and related material may also be submitted to Coast Guard personnel specified at that meeting. All written comments and related material must be received by the Coast Guard on or before the meeting date.

ADDRESSES: The public meeting will be held in the auditorium at Stillwater Junior High School, 523 Marsh Street West, Stillwater, MN 55082-5700. Parking is provided in the main parking lot on the north side of the building.

You may submit written comments identified by docket number USCG-2010-0075 before the meeting using any one of the following methods:

(1) D8localnoticefeedback@uscg.mil.

(2) Austin.T.Glass@uscg.mil.

(3) Fax: 504-671-2137 (ATTN: Federal Projects).

(4) Mail: Commander (dpw), Eighth Coast Guard District, ATTN: Federal Projects, 500 Poydras Street, Room 1230, New Orleans, LA 70130-3310.

(5) Hand delivery: Same as mail address above, between 9 a.m. and 5 p.m., Monday through Friday, except Federal holidays.

To avoid duplication, please use only one of these five methods. Our online docket for this meeting is available on the Internet at http://www.regulations.gov under docket number USCG-2010-0075.

FOR FURTHER INFORMATION CONTACT: If you have questions concerning the meeting, please e-mail ENS Austin Glass, U.S. Coast Guard, Eighth District, Waterways Management, at Austin.T.Glass@uscg.mil or telephone 504-671-2113.

SUPPLEMENTARY INFORMATION:

Background and Purpose

The purpose of this meeting is to review the current Aids to Navigation system on the St. Croix River and discuss concerns and improvements that could be made to create a more consistent and useful waterway.

You may view the online docket and comments submitted thus far by going to http://www.regulations.gov. Once there, select the Advanced Docket Search option on the right side of the screen, insert USCG-2010-0075 in the “Search” box, and then click “Search” at the bottom of the page. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

We encourage you to participate in this meeting by submitting comments either orally at the meeting or in writing. If you bring written comments to the meeting, you may submit them to Coast Guard personnel specified at the meeting to receive written comments.

Comments must be submitted to the Coast Guard on or before the meeting date. If you submit a comment online through e-mail to Austin.T.Glass@uscg.mil or D8localnoticefeedback@uscg.mil, it will be considered received by the Coast Guard when you successfully transmit the comment. If faxed, hand delivered, or mailed, comments will be considered as having been received by the Coast Guard when it is received at the Coast Guard District Eight facilities.

These comments will be submitted to our online public docket. All comments received will be posted without change to http://www.regulations.gov and will include any personal information you have provided.

Anyone can search the electronic form of comments received into any of our dockets by the name of the individual submitting the comment (or signing the comment, if submitted on behalf of an association, business, labor union, etc.). You may review a Privacy Act notice regarding our public dockets in the January 17, 2008, issue of the Federal Register (73 FR 3316).

Information on Services for Individuals With Disabilities

For information on facilities or services for individuals with disabilities or to request special assistance at the public meeting, contact ENS Austin Glass, U.S. Coast Guard, at the e-mail address indicated under the FOR FURTHER INFORMATION CONTACT section of this notice.

We will provide a written summary of the meeting and comments and place that summary in the docket.

Dated: February 3, 2010.
M.E. Landry,
Rear-Admiral, U.S. Coast Guard, Commander, Eighth Coast Guard District.

[FR Doc. 2010-3657 Filed 2-23-10; 8:45 am]

BILLING CODE 9110-04-P